DEPARTMENT OF COMMERCE

Foreign-Trade Zones Board

Foreign-Trade Zone 226—Merced, Madera, Fresno, and Tulare Counties, California; Site Renumbering Notice

Foreign-Trade Zone 226 was approved by the Foreign-Trade Zones Board on December 22, 1997 (Board Order 946, 63 FR 778-779, 01/07/98) and expanded on May 14, 2003 (Board Order 1276, 68 FR 27985, 05/22/03).

FTZ 226 currently consists of 12 “Sites” totaling some 2,424 acres located within and adjacent to the Fresno Customs port of entry area. The current update does not alter the physical boundaries that have previously been approved, but instead involves an administrative renumbering of existing Site 4A to separate unrelated, non-contiguous sites for recordkeeping purposes.

Under this revision, the site list for FTZ 226 will be as follows: Site 1 (791 acres)—Castle Airport (formerly Castle Air Force Base) Morimoto Industrial Park, 3450 C Street, Atwater (Merced County); Site 2 (242 acres)—within the MidState 99 Distribution Center, Visalia (Tulare County) (includes 65 acres located at 2525 North Plaza Drive approved on a temporary basis until 3/1/11); Site 3 (191 acres)—Mid Cal Business Park, Highway 33, Gustine (Merced County); Site 4 (101 acres)—within the Applegate Business Park, Highway 33, Air Park Road, Atwater (Merced County); Site 6 (87 acres)—City of Madera Airport Industrial Park/State Center Commerce Park, Falcon Drive, Madera (Madera County); Site 7 (10 acres)—City of Madera Industrial Park, 2500 West Industrial Avenue, Madera (Madera County); Site 8 (102 acres)—Airways East Business Park, East Shields Avenue, Fresno (Fresno County); Site 9 (225 acres)—Central Valley Business Park, East North Avenue, Fresno (Fresno County); Site 10 (497 acres)—consisting of the Fresno Airport Industrial Park area located on Aircorp Way and at the intersection of E. Anderson and E. Clinton Avenues, Fresno, and the adjacent City of Clovis Industrial Park located at the intersection of West Dakota Avenue & West Pontiac Way, Clovis (Fresno County); Site 11 (35 acres)—Reedley Industrial Park II, 1301 South Buttonwillow Avenue, Reedley (Fresno County); Site 12 (128 acres)—City of Selma Industrial Park, East Nebraska Avenue, Selma (Fresno County); and, Site 13 (15 acres)—located at 810 E. Continental Avenue, Tulare, (Tulare County).

For further information, contact Christopher Kemp at Christopher.Kemp@trade.gov or (202) 482-0862.

Dated: November 4, 2010.
Andrew McGilvray,
Executive Secretary.

[FR Doc. 2010-28409 Filed 11-9-10; 8:45 am]

BILLING CODE P